DEPARTMENT OF JUSTICE

Antitrust Division

Notice Pursuant to the National Cooperative Research and Production Act of 1993—National Fluid Power Association (“NFPA”)

Notice is hereby given that, on August 30, 2004, pursuant to section 6(a) of the National Cooperative Research and Production Act of 1993, 15 U.S.C. 4301 et seq. (“the Act”), National Fluid Power Association (“NFPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances. Pursuant to section 6(b) of the Act, the name and principal place of business of the standards development organization is National Fluid Power Association, Milwaukee, WI. The nature and scope of the NFPA's standards development activities are to develop, plan, establish, and coordinate voluntary consensus standards applicable to the fluid power industry on industry (NEPA), national (American National Standards), and international (ISO) levels. NFPA develops industry and national standard, and coordinates international standards. in order to: Simplify the use of fluid power; help to assure system integrity and safety in the application of fluid power; help educated users on how to correctly size and apply products; determine uniform methods for testing products and expressing their performance, allowing comparison; communicate needs in a commonly understood language; help to improve efficiency of fluid power products and systems; simplify and variety of products and sizes in the marketplace; and encourage new product development. NFPA's standards for fluid power products and systems fall into three basic categories—communicate standards, design standards and performance standards. NFPA develops industry and national standards in the field of fluid power, specifically hydraulic and pneumatic components and systems for application in both industrial (stationary) and mobile equipment. Components covered include, but are not limited to: accumulators, conductors (rigid and flexible), cylinders, electrohydraulic and electropneumatic components and systems, connectors, fluid devices, hose fittings and assemblies, filters and separators, fluids, hydraulic pumps, motors, moving-part fluid-controls, pneumatic lubricators, regulators, quick-action couplings, reservoirs, sealing devices and valves. NFPA is actively involved in coordinating and administering fluid power standards on an international level in the field of fluid power systems and components, comprising terminology, construction, principal dimensions, safety requirements and testing and inspection methods. Covered components include, but are not limited to: Accumulators, compressed air dryers, conductors (rigid and flexible), cylinders, electrohydraulic and electropneumatic components and systems, fittings, fluidic devices, hose fittings and assemblies, filters and separators, fluids, hydraulic pumps, motors, moving-part fluid controls, pneumatic lubricators, regulators, quick-action couplings, reservoirs, sealing devices, and valves.

Dorothy B. Fountain
Deputy Director of Operations, Antitrust Division.

[FR Doc. 04-22156 Filed 10-01-04; 8:45 am]

BILLING CODE 4410-11-M